DEPARTMENT OF COMMERCE

Foreign-Trade Zone Board

[Docket 19-2000]

Foreign-Trade Zone 165—Midland, TX; Application for Subzone, Phillips Petroleum Company (Oil Refinery Complex), Borger, TX

An application has been submitted to the Foreign-Trade Zones Board (the Board) by the City of Midland, grantee of FTZ 165, requesting special-purpose subzone status for the oil refinery complex of Phillips Petroleum Company, located in Borger, Texas. The application was submitted pursuant to the provisions of the Foreign-Trade Zones Act, as amended (19 U.S.C. 81a-81u), and the regulations of the Board (15 CFR part 400). It was formally filed on May 3, 2000.

The refinery complex (130,000 BPD capacity, 246 storage tanks with 10.3 million barrel capacity) is located at two sites in Borger, Texas: Site 1 (6,045 acres)—main refinery complex, located at Spur 119 North, Borger; Site 2 (585 acres)—crude oil tank farm, located on Highway 136, Borger, 5 miles north of the main refinery complex. The refinery is used to produce fuels, liquid petroleum gases, and refinery by-products including gasoline, jet fuel, aviation gas, distillates, residual fuels, naphthas, motor fuel blendstocks, butane, isobutane, butadiene, propane, benzene, toluene, xylene, acyclic and cyclic hydrocarbons, hydrogen sulfide, carbon black oil, petroleum coke, asphalt and sulfur. Some 10 percent of the crude oil (60 percent of inputs) is sourced from abroad. The application also indicates that the company may in the future import under FTZ procedures some naphthas, virgin gas oil, natural gas condensate and motor fuel blendstocks.

Zone procedures would exempt the refinery from Customs duty payments on the foreign products used in its exports. On domestic sales, the company would be able to choose the Customs duty rates that apply to certain petrochemical feedstocks and refinery by-products (duty-free) by admitting incoming foreign crude in non-privileged foreign status. The duty rates on inputs range from 5.25 cents/barrel to 10.5 cents/barrel. The application indicates that the savings from zone procedures would help improve the refinery's international competitiveness.

In accordance with the Board's regulations, a member of the FTZ staff has been designated examiner to investigate the application and report to the Board.

Public comment is invited from interested parties. Submissions (original and 3 copies) shall be addressed to the Board's Executive Secretary at the address below. The closing period for their receipt is July 17, 2000. Rebuttal comments in response to material submitted during the foregoing may be submitted during the subsequent 15-day period to July 31, 2000.

A copy of the application and the accompanying exhibits will be available for public inspection at each of the following locations:

Office of the Port Director, U.S. Customs Service, 10801 Airport Blvd., Amarillo, TX 79111

Office of the Executive Secretary, Foreign-Trade Zone Board, Room 4008, U.S. Department of Commerce, 14th and Pennsylvania Avenue, N.W., Washington, DC 20230

Dated: May 7, 2000.
Dennis Puccinelli,
Acting Executive Secretary.

[FR Doc. 00-12327 Filed 5-16-00; 8:45 am]

BILLING CODE 3510-DS-P